DEPARTMENT OF TRANSPORTATION

National Highway Traffic Safety Administration

[Docket No. NHTSA-2013-0098]

Notice of Buy America Waiver

AGENCY: National Highway Traffic Safety Administration (NHTSA), Department of Transportation (DOT).

ACTION: Notice of Buy America waiver.

SUMMARY: This Notice provides NHTSA's finding that a waiver of the Buy America requirements is appropriate for the purchase of Combi Navette infant car seats by the Maryland Highway Safety Office (MHSO), using Federal grant funds. NHTSA has determined that a waiver is appropriate because there are no comparable car seats produced in the United States that are designed to seat infants under four pounds.

DATES: The effective date of this waiver is October 7, 2013. Written comments regarding this notice may be submitted to NHTSA and must be received on or before: September 16, 2013.

ADDRESSES: Written comments may be submitted using any one of the following methods:

• Mail: Docket Management Facility, M-30, U.S. Department of Transportation, West Building, Ground Floor, Rm. W12-140, 1200 New Jersey Avenue SE., Washington, DC 20590.

• Fax: Written comments may be faxed to (202) 493-2251.

• Internet: To submit comments electronically, go to the Federal regulations Web site at http://www.regulations.gov. Follow the online instructions for submitting comments.

• Hand Delivery: West Building Ground Floor, Room W12-140, 1200 New Jersey Avenue SE., between 9 a.m. and 5 p.m. Eastern Time, Monday through Friday, except Federal holidays.

Instructions: All comments submitted in relation to this waiver must include the agency name and docket number. Please note that all comments received will be posted without change to http://www.regulations.gov, including any personal information provided. You may also call the Docket at 202-366-9324.

FOR FURTHER INFORMATION CONTACT: For program issues, contact Barbara Sauers, Office of Regional Operations and Program Delivery, NHTSA (phone: 202-366-0144). For legal issues, contact Andrew DiMarsico, Office of Chief Counsel, NHTSA (phone: 202-366-5263). You may send mail to these officials at National Highway Traffic Safety Administration, 1200 New Jersey Avenue SE., Washington, DC 20590.

SUPPLEMENTARY INFORMATION: This Notice provides NHTSA's finding that a waiver of the Buy America requirements, 23 U.S.C. 313, is appropriate for the Maryland Highway Safety Office (MHSO) to purchase Combi Navette infant car seats, Model No.836584, using grant funds authorized under 23 U.S.C. 402 (section 402). Section 402 funds are available for use by State Highway Safety Programs that, among other things, encourage the proper use of occupant protection devices, including child restraint systems. 23 U.S.C. 402(a). The Buy America Act provides that NHTSA “shall not obligate any funds authorized to be appropriated to carry out the Surface Transportation Assistance Act of 1982 (96 Stat. 2097) or Title 23 and administered by the Department of Transportation, unless steel, iron, and manufactured products used in such project are produced in the United States.” 23 U.S.C. 313. However, NHTSA may waive those requirements if (1) Their application would be inconsistent with the public interest; (2) such materials and products are not produced in the United States in sufficient and reasonably available quantities and of a satisfactory quality; or (3) the inclusion of domestic material will increase the cost of the overall project contract by more than 25 percent. 23 U.S.C. 313(b). In this instance, NHTSA has determined that a waiver is appropriate for the purchase of Combi Navette child seats because there is no comparable product produced domestically that meets the need identified by MHSO—specifically, the transport of low birth weight infants under four pounds.

MHSO seeks a waiver to purchase Combi Navette car seats for use by the Maryland Institute for Emergency Medical Services Systems (MIEMSS) and by Maryland's Kids in Safety Seats (KISS) Car Seat Loaner Program. Both KISS and MIEMSS operate programs that provide resources to hospitals that discharge healthy, under-four-pound infants. MHSO states that it is a best practice to send healthy, low birth weight infants home in car seats instead of car beds. This is because car seats are easier to use and install in vehicles, require only one seating position in a vehicle (as opposed to two, depending on the vehicle), and the harness dimensions of car seats are not as limiting as car beds.

The Combi Navette model is preferred by these programs because it has a birth-to-22-pound weight allowance, which allows for the transport of under-four-pound infants. The model is also equipped with low harness slots, a 5-point front harness adjuster with a splitter plate that allows an easy and accurate harness fit for babies under four pounds, and an anti-rebound bar which allows for easy angle positioning without the need for noodles or rolled towels to support the infant. The institutional model, sold through Child Source, retails for approximately $60.00 per seat and is sold in packs of three units. It is considered a manufactured product under the Buy America Act and is produced by the Combi Corporation, a Japan-based company which operates manufacturing subsidiaries in China.

NHTSA is not aware of a comparable child seat produced in the United States. The Combi Navette is unique in the child seat market because it does not specify a minimum child weight. Rather, it is designed to safely seat children from birth-weight to 22 pounds. In contrast, all domestically-produced car seats on the market specify a minimum infant weight of at least four pounds. NHTSA is aware of only one other car seat, the Nania Baby Ride, which is designed to seat infants under four pounds; however, to the best of NHTSA's knowledge, the Baby Ride is currently manufactured by France-based Team-Tex and, therefore, for purposes of the Buy America Act, is not produced in the United States. NHTSA invites public comment on this conclusion.

Therefore, in light of the above discussion, and pursuant to 23 U.S.C. 313(b)(2), NHTSA finds that it is appropriate to grant a waiver from the Buy America requirements to MHSO in order to purchase Combi Navette infant car seats. In accordance with the provisions of Section 117 of the Safe, Accountable, Flexible, Efficient Transportation Equity Act: A Legacy of Users Technical Corrections Act of 2008 (Pub. L. 110-244, 122 Stat. 1572), NHTSA is providing this notice as its finding that a waiver of the Buy America requirements is appropriate. Written comments on this finding may be submitted through any of the methods discussed above.

Authority: 23 U.S.C. 313; Pub. L. 110-161.

Issued on: September 5, 2013.
O. Kevin Vincent,
Chief Counsel.

[FR Doc. 2013-21518 Filed 9-4-13; 8:45 am]

BILLING CODE 4910-59-P